DEPARTMENT OF EDUCATION

Office of Special Education and Rehabilitative Services; Overview Information; Personnel Development To Improve Services and Results for Children With Disabilities—Paraprofessional Preservice Program Improvement Grants; Notice Inviting Applications for New Awards for Fiscal Year (FY) 2010

Catalog of Federal Domestic Assistance (CFDA) Number: 84.325N.

Dates:

Applications Available: September 4, 2009.

Deadline for Transmittal of Applications: November 3, 2009.

Deadline for Intergovernmental Review: January 4, 2010.

Full Text of Announcement

I. Funding Opportunity Description

Purpose of Program: The purposes of this program are to (1) Help address State-identified needs for highly qualified personnel—in special education, related services, early intervention, and regular education—to work with infants, toddlers, and children with disabilities; and (2) ensure that those personnel have the necessary skills and knowledge, derived from practices that have been determined through scientifically based research and experience, to be successful in serving those children.

Priority: In accordance with 34 CFR 75.105(b)(2)(v), this priority is from allowable activities specified in the statute (see sections 662 and 681(d) of the Individuals with Disabilities Education Act (IDEA), 20 U.S.C. 1400 et seq.).

Absolute Priority: For FY 2010 and any subsequent year in which we make awards from the list of unfunded applicants from this competition, this priority is an absolute priority. Under 34 CFR 75.105(c)(3), we consider only applications that meet this priority.

This priority is:

Personnel Development To Improve Services and Results for Children With Disabilities—Paraprofessional Preservice Program Improvement Grants

Background: Paraprofessionals provide important services to children with disabilities ages birth through 21 and their families. In early intervention (EI) programs, preschools, and elementary, middle, and high schools, paraprofessionals provide instructional support, modify instructional materials, implement behavioral management plans, assist in the implementation of postsecondary education transition plans, and collect data to monitor children's development and learning (Kellegrew, Pacifico-Banta, & Stewart, 2008; Mikulecky & Baber, 2005; Shkodriani, 2003). Kellegrew, Pacifico-Banta, and Stewart (2008) and Shkodriani (2003) note that paraprofessionals have become increasingly responsible for other activities involving children with disabilities, such as participating in the development of their Individualized Family Service Plans and Individualized Education Programs; providing direct services to children and their families, including small group instruction and one-on-one tutoring; and assisting with classroom management. Despite the critical roles that paraprofessionals play in the lives of children with disabilities, scant attention has been paid to ensure that early childhood or K through 12 paraprofessional preservice programs adequately prepare paraprofessionals to serve this population.

In a survey of coordinators for the Part C infants and toddlers program under IDEA, half of the respondents indicated that their State had added or created new professional categories, particularly at the paraprofessional level (Center to Inform Personnel Preparation Policy and Practice in Early Intervention and Preschool Education, 2004a). Many States are trying to identify training opportunities for paraprofessionals in EI or work on strategies to increase the quality of preservice programs (Kellegrew et al., 2008). Coordinators for the Part B section 619 preschool program under IDEA also expressed concern about the adequacy of training of paraprofessionals, particularly to work with young children with disabilities and their families (Center to Inform Personnel Preparation Policy and Practice in Early Intervention and Preschool Education, 2004b). Although national professional organizations (e.g., The Division for Early Childhood of the Council for Exceptional Children and the National Association for the Education of Young Children) have personnel standards that could be used to guide the training of paraprofessionals working with young children with disabilities and their families, many of the certificate or associate degree programs that train paraprofessionals have yet to reach these standards or offer practicum experience in working with children with disabilities and their families (Chang, Early, & Winton, 2005).

Section 635(a)(9) of Part C of IDEA and section 612(a)(14)(B) of Part B of IDEA and 34 CFR 300.156(b)(1) of the IDEA Part B regulations require States to provide assurances that they have established paraprofessional qualifications that are consistent with State-approved or State-recognized certification, licensing, registration, or other comparable requirements that apply to the professional discipline in which those personnel are providing early intervention, special education, or related services. Westat (2002) reported that the average paraprofessional works in five different classes per week and serves 21 students, 15 of whom have disabilities; consequently, it is important that paraprofessionals are trained to meet standards that will prepare them to provide effective services to all students. According to Giangreco (2003), paraprofessionals in elementary and secondary special education settings are under-trained or untrained to work with students with disabilities. Improving paraprofessional preservice programs will help ensure that paraprofessionals are adequately trained to meet the requirements under IDEA and thus, better prepared to meet the needs of children with disabilities.

The Office of Special Education Programs (OSEP) is establishing this priority to improve preservice programs for paraprofessionals who serve children ages birth through five and in grades K through 12 by enhancing or redesigning curricula to adequately train these paraprofessionals to address the needs of children with disabilities.

Priority: The purpose of this priority is to provide Federal support to improve the quality of existing paraprofessional certificate or associate degree programs. Institutions receiving support under this priority must enhance or redesign the program curricula so that paraprofessionals are well-prepared to work with children with disabilities and their families. There are two focus areas under this priority. Under focus area A, the Secretary intends to support improvement grants for EI, early childhood special education (ECSE), and early childhood education (ECE) paraprofessional preservice programs. Under focus area B, the Secretary intends to support improvement grants for K through 12 paraprofessional preservice programs.

Note: Applicants must identify the specific focus area, A or B, under which they are applying as part of the competition title on the application cover sheet (SF form 424, line 4). Applicants may not submit the same proposal under more than one focus area.

Focus Area A: EI, ECSE, and ECE Paraprofessional Preservice Programs

The programs under focus area A include certificate or associate degree programs at institutions of higher education (IHEs), including community colleges, that train EI, ECSE, or ECE paraprofessionals to serve children ages birth through five. These programs under this focus area must enhance or redesign their curricula by: (1) Incorporating evidence-based and competency-based practices and content in special education into each course; and (2) providing at least one practicum experience in a program that serves children with disabilities ages birth through five and their families. Paraprofessional students must obtain the knowledge, training, and skills necessary to work effectively with licensed or certified practitioners to provide appropriate services to children with disabilities and their families. In addition, the programs under this focus area must ensure that program graduates meet the qualifications for paraprofessionals that are consistent with the State standards in accordance with section 635(a)(9) of IDEA or section 612(a)(14)(B) of IDEA and 34 CFR 300.156(b) of the IDEA Part B regulations, as appropriate, or in States that do not have State standards, meet appropriate national professional organization standards for paraprofessionals.

Focus Area B: K Through 12 Paraprofessional Preservice Programs

The programs under focus area B include certificate or associate degree programs at IHEs, including community colleges, that train paraprofessionals to serve students in grades K through 12. The programs under this focus area must enhance or redesign the curricula by: (1) Incorporating evidence-based and competency-based practices and content in special education into each course; and (2) providing at least one practicum experience in a setting that serves children with disabilities in grades K through 12 and their families. Paraprofessional students must obtain the knowledge, training, and skills necessary to work effectively with licensed or certified K through 12 practitioners to provide appropriate services to children with disabilities and their families. In addition, the programs under this focus area must ensure that program graduates meet the qualifications for paraprofessionals that are consistent with the State standards in accordance with section 612(a)(14)(B) of IDEA and 34 CFR 300.156(b) of the IDEA Part B regulations or in States that do not have State standards, meet the paraprofessional standards in accordance with section 1119 of the Elementary and Secondary Education Act of 1965, as amended.

To be considered for funding under the Paraprofessional Preservice Program Improvement Grants absolute priority, focus area A or B, applicants must meet the application requirements contained in this priority. All projects funded under this absolute priority also must meet the programmatic and administrative requirements specified in the priority.

Note: The two focus areas under this priority only support the improvement of existing EI, ECSE, and ECE or K through 12 paraprofessional preservice programs. This priority does not support the development of new paraprofessional preservice programs, nor does it provide for financial support of paraprofessional students during any year of the project. Projects training paraprofessionals in other related services, speech/language or adapted physical education are not eligible under these focus areas.

Application Requirements for Focus Areas A and B

An applicant must include in its application—

(a) A plan to implement the activities described in the Project Activities section of this priority. In this plan, applicants must describe first-year activities, include a three-year timeline and implementation plan, and indicate the projected number of graduates;

(b) A budget that includes attendance at a three-day Project Directors' Conference in Washington, DC, during each year of the project period; and

(c) An appendix that includes all course syllabi for the existing paraprofessional preservice program.

Project Activities for Focus Areas A and B

To meet the requirements of this priority, the project, at a minimum, must conduct the following activities:

(a) Based on the plan described under paragraph (a) of the Application Requirements, enhance or redesign the paraprofessional preservice program's curricula by incorporating evidence-based and competency-based practices and content in special education into each course and by providing at least one practicum experience in a setting that serves children with disabilities and their families. This work must be done in the first year of the project; must describe the proposed project activities associated with implementation of the curricula; and may be implemented with the approval of the OSEP Project Officer. The improved paraprofessional preservice program must—

(1) Be aligned to State standards for paraprofessionals, or in States that do not have State standards, meet appropriate national professional organization standards for paraprofessionals; and

(2) Be designed to ensure that paraprofessional students receive training, and develop knowledge and skills, in the following areas:

(i) Collaborating and working effectively with licensed and certified professional practitioners, as appropriate.

(ii) Implementing social-emotional and behavioral interventions and classroom management practices.

(iii) Implementing instructional strategies to support early development and learning or academic achievement.

(iv) Using technology to enhance children's development and access to natural learning opportunities or participation in the general education curriculum.

(v) Observing and collecting data for progress monitoring.

(vi) Communicating effectively with children and families.

(vii) Assisting in the implementation of transition plans and services across settings from EI to preschool, preschool to elementary school, elementary school to secondary school, and secondary school to postsecondary education (post school) or the workforce, as appropriate.

(viii) Working with children and families from diverse cultural and linguistic backgrounds, including limited English proficient children with disabilities.

Note: In alignment with the principle outlined in the American Recovery and Reinvestment Act of 2009 to make improvements in teacher effectiveness and in the equitable distribution of qualified personnel for all children, particularly children who are most in need, OSEP encourages programs to provide practicum experiences in high-poverty and rural settings.

(b) Develop and implement a plan to ensure that program faculty have the necessary support, knowledge, and skills to implement the new content and to train paraprofessional students to work with children with disabilities.

(c) Develop and implement a management plan for instituting the improved paraprofessional preservice program developed in the first year.

(d) Demonstrate how the improved program will work with other projects funded by OSEP and the Department of Education to incorporate existing training resources on evidence-based practices (e.g., the IRIS Center for Faculty Enhancements: http://iris.peabody.vanderbilt.edu and CONNECT: The Center to Mobilize Early Childhood Knowledge: http://community.fpg.unc.edu/connect).

(e) Submit the revised curriculum and syllabi for courses that are included in the improved program to the OSEP Project Officer at the end of the first year of the project period and make any necessary revisions required by the OSEP Project Officer.

(f) Communicate and collaborate with the OSEP Project Officer to determine how the project will evaluate the project's goals and objectives, including the implementation of revised coursework, and how the project will report the impact to OSEP in annual performance reports and final performance reports.

(g) Implement a plan to maintain the improved program once Federal funding ends.

(h) If the project maintains a Web site, include relevant information about the revised program and documents in a form that meets government or industry-recognized standards for accessibility.

(i) Maintain ongoing communication with the OSEP Project Officer through monthly phone conversations or e-mail communication and participate in monthly grantee community of practice teleconferences, as directed by OSEP.

References:

Center to Inform Personnel Preparation Policy and Practice in Early Intervention and Preschool Education. (2004a). Study I data report: The national landscape of early intervention in personnel preparation standards under Part C of the Individuals with Disabilities Education Act. Farmington, CT: University of Connecticut Health Center. Available at: http://www.uconnucedd.org/per_prep_center/publications.html.

Center to Inform Personnel Preparation Policy and Practice in Early Intervention and Preschool Education. (2004b). Study I data report: The national landscape of early childhood special education in personnel preparation standards under 619 of the Individuals with Disabilities Education Act. Farmington, CT: University of Connecticut Health Center. Available at: http://www.uconnucedd.org/per_prep_center/publications.html.

Chang, F., Early., D., & Winton, P. (2005). Early childhood teacher preparation in special education at 2- and 4- year institutions of higher education. Journal of Early Intervention, 27(2), 110-124.

Giangreco, M. (2003). Working with paraprofessionals. Educational Leadership, 61(2), 50-53. Retrieved April 9, 2008 from http://www.monarchcenter.org/pdfs/workwithparas_2003.pdf.

Kellegrew, D.H., Pacifico-Banta, J., & Stewart, K. (2008). Training early intervention assistants in California's community colleges. (Issues & Answers Report, REL 2008-No. 060). Washington, DC: U.S. Department of Education, Institute of Educational Sciences, National Center for Education Evaluation and Regional Assistance, Regional Educational Laboratory West. Available at: http://ies.ed.gov/ncee/edlabs/projects/project.asp?ProjectID=165.

Mikulecky, M.T. & Baber, A. (2005). ECS policy brief: from highly qualified to highly competent paraprofessionals: How NCLB requirements can catalyze effective program and policy development guidelines from the ECS paraprofessional expert. Retrieved January 22, 2008, from http://www.ecs.org/html/IssueSection.asp?issueid=195&subissueid=112&ssID=0&s=Selected+Research+%26+Readings.

Shkodriani, G. (2003). Training for paraprofessionals: The community college role. Retrieved January 22, 2008, from http://hems.aed.org/docs/Paraprofessionals.pdf.

Westat. (2002) Study of personnel needs in special education. Retrieved January 23, 2008 from http://ferdig.coe.ufl.edu/spense/KeyFindings.doc.

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1462 and 1481.

Applicable Regulations: The Education Department General Administrative Regulations (EDGAR) in 34 CFR parts 74, 75, 77, 79, 80, 81, 82, 84, 85, 86, 97, 98, and 99.

Note: The regulations in 34 CFR part 79 apply to all applicants except Federally recognized Indian Tribes.

Note: The regulations in 34 CFR part 86 apply to IHEs only.

II. Award Information

Type of Award: Cooperative Agreement.

Estimated Available Funds: The Administration has requested $88,152,592 for the Personnel Development to Improve Services and Results for Children with Disabilities program for FY 2010, of which we intend to use an estimated $1,500,000 for the competition announced in this notice. The actual level of funding, if any, depends on final congressional action. However, we are inviting applications to allow enough time to complete the grant process if Congress appropriates funds for this program.

Contingent upon the availability of funds and the quality of applications, we may make additional awards in FY 2011 from this competition.

Estimated Range of Awards: $145,000-150,000.

Estimated Average Size of Awards: $150,000.

Maximum Award: We will reject any application that proposes a budget exceeding $150,000 for a single budget period of 12 months. The Assistant Secretary for Special Education and Rehabilitative Services may change the maximum amount through a notice published in the Federal Register.

Estimated Number of Awards: 10.

Note: The Department is not bound by any estimates in this notice.

Project Period: Up to 48 months.

III. Eligibility Information

1. Eligible Applicants: IHEs (as defined in section 101 of the Higher Education Act of 1965).

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address To Request Application Package: Education Publications Center (ED Pubs), P.O. Box 1398, Jessup, MD 20794-1398. Telephone, toll free: 1-877-433-7827. Fax: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this competition as follows: CFDA number 84.325N.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: September 4, 2009.

Deadline for Transmittal of Applications: November 3, 2009.

Applications for grants under this competition may be submitted electronically using the Electronic Grant Application System (e-Application) accessible through the Department's e-Grants site, or in paper format by mail or hand delivery. For information (including dates and times) about how to submit your application electronically, or in paper format by mail or hand delivery, please refer to section IV. 6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: January 4, 2010.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications

If you choose to submit your application to us electronically, you must use e-Application, accessible through the Department's e-Grants Web site at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgment of your submission, you may submit your application in paper format by mail or hand delivery in accordance with the instructions in this notice.

b. Submission of Paper Applications by Mail

If you submit your application in paper format by mail (through the U.S. Postal Service or a commercial carrier), you must mail the original and two copies of your application, on or before the application deadline date, to the Department at the following address: U.S. Department of Education, Application Control Center, Attention: (CFDA Number 84.325N), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.325N), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this competition are from 34 CFR 75.210 and are listed in the application package.

2. Review and Selection Process: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Personnel Development to Improve Services and Results for Children with Disabilities program. These measures include: (1) The percentage of projects that incorporate scientifically based or evidence-based practices; (2) the percentage of scholars who exit training programs prior to completion due to poor academic performance; (3) the percentage of degree or certification recipients who are working in the area(s) for which they were trained upon program completion; (4) the percentage of degree or certification recipients who are working in the area(s) for which they were trained upon program completion and are fully qualified under IDEA; (5) the percentage of scholars completing IDEA-funded training programs who are knowledgeable and skilled in scientifically based or evidence-based practices for children with disabilities; and (6) the percentage of program graduates who maintain employment for three or more years in the area(s) for which they were trained.

Grantees may be asked to participate in assessing and providing information on these aspects of program quality.

VII. Agency Contact

FOR FURTHER INFORMATION CONTACT: Shedeh Hajghassemali, U.S. Department of Education, 400 Maryland Avenue, SW., room 4091, Potomac Center Plaza (PCP), Washington, DC 20202-2550. Telephone: (202) 245-7506.

If you use a TDD, call the Federal Relay Service (FRS), toll free, at 1-800-877-8339.

VIII. Other Information

Accessible Format: Individuals with disabilities can obtain this document and a copy of the application package in an accessible format (e.g., Braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to this Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Andrew J. Pepin, Executive Administrator for the Office of Special Education and Rehabilitative Services to perform the functions of the Assistant Secretary for Special Education and Rehabilitative Services.

Dated: August 31, 2009.
Andrew J. Pepin,
Executive Administrator for Special Education and Rehabilitative Services.

[FR Doc. E9-21436 Filed 9-3-09; 8:45 am]

BILLING CODE 4000-01-P